DEPARTMENT OF COMMERCE

International Trade Administration

[A-427-801, A-428-801, A-475-801, A-588-804, A-559-801, A-412-801]

Ball Bearings and Parts Thereof From France, Germany, Italy, Japan, Singapore, and the United Kingdom: Notice of Partial Rescission of Antidumping Duty Administrative Reviews

AGENCY: Import Administration, International Trade Administration, Department of Commerce.

SUMMARY: On July 3, 2006, in response to requests from interested parties, the Department of Commerce published a notice of initiation of administrative reviews of the antidumping duty orders on ball bearings (and parts thereof) from France, Germany, Italy, Japan, Singapore, and the United Kingdom. The period of review is May 1, 2005, through April 30, 2006. The Department of Commerce is rescinding these reviews in part.

EFFECTIVE DATE: October 16, 2006.

FOR FURTHER INFORMATION CONTACT: Kristin Case or Richard Rimlinger, AD/CVD Operations, Office 5, Import Administration, International Trade Administration, U.S. Department of Commerce, 14th Street and Constitution Avenue, NW, Washington, DC 20230; telephone: (202) 482-3174 and (202) 482-4477, respectively.

SUPPLEMENTARY INFORMATION:

Background

On July 3, 2006, in response to requests from interested parties, the Department of Commerce (Department) published a notice of initiation of administrative reviews of the antidumping duty orders on ball bearings (and parts thereof) from France, Germany, Italy, Japan, Singapore, and the United Kingdom. See Notice of Initiation of Antidumping and Countervailing Duty Administrative Reviews, 71 FR 37892 (July 3, 2006).

Subsequent to the initiation of these reviews, we received timely withdrawals of the requests we had received for the following reviews: ABB Turbo Systems Limited and ABB Inc. (collectively ABB) and NTN Kugellagerfabrik (Deutschland) GmbH (NTN GmbH) with respect to ball bearings and parts thereof from Germany; INA with respect to ball bearings and parts thereof from France; Alcatel Vacuum Technology France (AVTF) with respect to ball bearings and parts thereof from France and the United Kingdom; NSK Europe Ltd., NSK Bearings Europe Ltd. and NSK Corporation (collectively NSK UK) and SKF Aeroengine Bearings UK (SKF UK) with respect to ball bearings and parts thereof from the United Kingdom; and Toyota Industries Corporation (Toyota), Takeshita Seiko Co., Ltd. (Takeshita), and Minebea Co., Ltd. (Minebea) with respect to ball bearings and parts thereof from Japan.¹ Because there are no other requests for review of the above-named firms, we are rescinding the reviews with respect to these companies in accordance with 19 CFR 351.213(d). We also received a timely withdrawal of the request we received for Sapporo Precision, Inc. (Sapporo) with respect to ball bearings and parts thereof from Japan.² A review of Sapporo was also requested by another interested party which has not withdrawn its request. Consequently, we have continued our review of Sapporo.

¹ On August 15, 2006, ABB submitted its withdrawal of request for review. On September 13, 2006, AVTF submitted its withdrawals of request for review. On September 21, 2006, Toyota submitted its withdrawal of request for review. On September 25, 2006, NSK UK submitted its withdrawal of request for review. On September 29, 2006, Timken submitted its withdrawals of request for review of INA, Minebea, NTN GmbH, SKF UK, and Takeshita.

² On September 1, 2006, Sapporo submitted its withdrawal of request for review.

Rescission of Reviews

In accordance with 19 CFR 351.213(d) the Department will rescind an administrative review “if a party that requested the review withdraws the request within 90 days of the date of publication of notice of initiation of the requested review.” ABB, AVTF, NSK UK, and Toyota withdrew their requests within the 90-day time limit. Timken U.S. Corporation (Timken) withdrew its requests for INA, Minebea, NTN GmbH, SKF UK, and Takeshita within the 90-day time limit. Because the Department received no other requests for review of ABB, AVTF, INA, NSK UK, NTN GmbH, Minebea, SKF UK, Takeshita, and Toyota, the Department is rescinding the reviews in part with respect to ball bearings and parts thereof from France, Germany, Japan, and the United Kingdom by these firms. The above rescissions are pursuant to 19 CFR 351.213(d)(1). The Department will issue appropriate assessment instructions to U.S. Customs and Border Protection within 15 days of publication of this notice.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

We are issuing and publishing these rescissions in accordance with section 777(i)(1) of the Tariff Act of 1930, as amended, and 19 CFR 351.213(d)(4).

Dated: October 10, 2006.
Stephen J. Claeys,
Deputy Assistant Secretary for Import Administration.

[FR Doc. E6-17148 Filed 10-13-06; 8:45 am]

BILLING CODE 3510-DS-S